DEPARTMENT OF DEFENSE

Department of the Navy

[Docket ID USN-2022-HQ-0026]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 7, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Navy Personnel Command, 5720 Integrity Drive, Millington, TN 38055, or call Ms. Sonya Martin at 703-614-7585.

SUPPLEMENTARY INFORMATION:

Title; Associated Form; and OMB Number: Burial at Sea Request/Authorization; OMB Control Number 0703-BLAS.

Needs and Uses: Burial at Sea is a time honored tradition used as a mechanism to honor the service of a veteran. The Burial at Sea Request/Authorization form allows a family member to request a burial at sea for a veteran, and lists the documentation required to enable the Navy to honor the request. This information is required, to ensure the person making the request is the legal person authorized to direct the disposition of the deceased.

The Burial at Sea Port Checklist is used only when the requested remains are fully casketed. Certain preparation is required for these remains, to ensure adequate safeguarding during transportation, storage aboard the ship until the event, and to ensure the casket sinks during the ceremony. The funeral home responsible for the storage, preparation and delivery to the port uses the checklist to prepare and inspect the casketed remains prior to transport.

Affected Public: Individuals or households; Businesses or other for-profit.

Annual Burden Hours: 180.

Number of Respondents: 320.

Responses per Respondent: 1.

Annual Responses: 320.

Average Burden per Response: 33.75 minutes.

Frequency: On occasion.

Dated: August 3, 2022.
Aaron T. Siegel,
Alternate OSD Federal Register Liaison Officer, Department of Defense.

[FR Doc. 2022-16927 Filed 8-5-22; 8:45 am]

BILLING CODE 3810-FF-P